NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 16, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: H. William Detrich, III, Department of Biology, 134 Mugar Hall, Northeastern University, Boston, MA 02067. Permit Application No. 2009-001.

Activity for Which Permit Is Requested

Introduce non-indigenous species. The applicant plans to use E. coli bacteria for the production of ³⁵S-labeled proteins to be used in protein assays performed in the Palmer Station laboratories. The focus of the research is the reconstitution of a cold-functioning chaperonin protein folding system from testis tissue of the Antarctic fish Notothenia coriiceps. In order to demonstrate that the chaperonin is functional, protein substrates labeled with ³⁵S-methionine must be used. To obtain these proteins they need to express N. coriiceps actin and tubulin substrates in E. coli in a medium supplemented with ³⁵S-methionine. Cultures will be autoclaved to kill the bacteria and the waste will be disposed using approved protocols.

Location: Palmer Station, Anvers Island, Antarctic Peninsula.

Dates: April 27, 2008 to July 4, 2008.

Nadene G. Kennedy,
Permit Officer, Office of Polar Programs.

[FR Doc. E8-5266 Filed 3-14-08; 8:45 am]

BILLING CODE 7555-01-P